DEPARTMENT OF TRANSPORTATION

Federal Aviation Administration

Agency Information Collection Activities: Requests for Comments; Clearance of Renewed Approval of Information Collection: Airports Grants Program

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 21, 2013, vol. 78, no. 162, page 51807. The FAA collects data from airport sponsors and planning agencies to determine eligibility, and to ensure proper use of Federal Funds and project accomplishment for the Airports Grants Program.

DATES: Written comments should be submitted by December 20, 2013.

FOR FURTHER INFORMATION CONTACT: Kathy DePaepe at (405) 954-9362, or by email at: Kathy.DePaepe@faa.gov.

SUPPLEMENTARY INFORMATION: OMB Control Number: 2120-0569.

Title: Airports Grants Program.

Form Numbers: FAA forms 5100-100, 5100-101, 5100-108, 5100-125, 5100-126, and 5370-1.

Type of Review: Renewal of an information collection.

Background: Codification of Certain U.S. Transportation Laws at 49 U.S.C. (Pub. L. 103-272), which is referred to as the “Act,” provides funding for airport planning and development projects at airports included in the National Plan of Integrated Airport Systems. The Act also authorizes funds for noise compatibility planning and to carry out noise compatibility programs. The information required by this program is necessary to protect the Federal interest in safety, efficiency, and utility of the Airport. Data is collected to meet report requirements of 49 CFR part 18 for financial management and performance monitoring. Information is collected in the application, and grant agreement amendments; financial management; and performance reporting.

Respondents: Approximately 1,950 sponsors and planning agencies for grant projects.

Frequency: Information is collected on occasion.

Estimated Average Burden per Response: 6.75 hours.

Estimated Total Annual Burden: 80,569 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on: November 13, 2013.
Albert R. Spence,
FAA Assistant Information Collection Clearance Officer, IT Enterprises Business Services Division, AES-200.

[FR Doc. 2013-27688 Filed 11-19-13; 8:45 am]

BILLING CODE 4910-13-P